DEPARTMENT OF ENERGY

Federal Energy Regulatory Commission

[Docket No. RP00-387-000]

Florida Gas Transmission Company; Notice of Extension of Time

August 16, 2004.

On August 13, 2004, Florida Gas Transmission Company (FGT) filed a motion for an extension of time for the implementation of the within-the-path capacity allocation and the outside-the-path segmentation requirements (637 requirements) of the Commission's Order issued February 18, 2004, in the above-docketed proceeding. FGT filed a Settlement Agreement (Settlement) in Docket No. RP04-12-000 contemporaneously with this extension request. In its motion, FGT states that an integral part of this Settlement consists of the Settling Parties Agreement on the specific, detailed terms and conditions for the implementation of the within-the-path priority and outside-the-path segmenting. FGT also states that unless the Commission grants additional time for FGT to implement the 637 requirements, FGT will either be required to implement its own version of the 637 requirements or to implement a portion of the Settlement's provisions prior to its approval by the Commission and prior to the Settlement's effective date. The motion further states that FGT is authorized to state that all active parties support the request for more time.

Upon consideration, notice is hereby given that an extension of time for FGT to comply with the Commission's February 18, 2004 Order is granted to and including 30 days after the Commission acts on the Settlement filed in Docket No. RP04-12-000.

Linda Mitry,
Acting Secretary.

[FR Doc. E4-1860 Filed 8-19-04; 8:45 am]

BILLING CODE 6717-01-P